ENVIRONMENTAL PROTECTION AGENCY

40 CFR Part 52

[EPA-R06-OAR-2005-TX-0005; FRL-8928-7]

Approval and Promulgation of Air Quality Implementation Plans; Texas; Revisions to the 1-Hour Ozone Plan for the Beaumont/Port Arthur Area: Control of Air Pollution From Volatile Organic Compounds, Nitrogen Compounds, and Reasonably Available Control Technology

AGENCY: Environmental Protection Agency (EPA).

ACTION: Proposed rule.

SUMMARY: EPA is proposing to approve part of two Beaumont-Port Arthur (BPA) State Implementation Plan (SIP) revisions that were submitted separately by the State of Texas on October 15, 2005. The revisions being proposed pertain to volatile organic compound (VOC) control requirements for batch processing and ship building and ship repair, and also to Reasonably Available Control Technology (RACT) requirements, for the Beaumont/Port Arthur (BPA) 1-hour ozone serious nonattainment area. In today's action, EPA is proposing to approve: The State's changes to the batch process rules and the shipbuilding and ship repair rules that lower the threshold for affected sources of VOC emissions to the serious area requirements of 50 tons per year (tpy), and the State's demonstration that the BPA area meets RACT requirements for sources of VOC and NOX emissions for the 1-hour ozone standard. These revisions meet statutory and regulatory requirements, and are consistent with EPA's guidance. The EPA is approving the revisions pursuant to section 110 and part D of the Federal Clean Air Act (the Act).

DATES: Written comments must be received on or before August 10, 2009.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the Addresses section of the direct final rule located in the rules section of this Federal Register.

FOR FURTHER INFORMATION CONTACT: Ellen Belk, Air Planning Section (6PD-L), Multimedia Planning and Permitting Division, U.S. EPA, Region 6, 1445 Ross Avenue, Dallas, Texas 75202-2733, telephone (214) 665-2164; fax number 214-665-7263; e-mail address belk.ellen@epa.gov.

SUPPLEMENTARY INFORMATION: In the final rules section of this Federal Register, EPA is approving the State's SIP submittal as a direct final rule without prior proposal because the Agency views this as a noncontroversial submittal and anticipates no adverse comments. A detailed rationale for the approval is set forth in the direct final rule. If no relevant adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule, which is located in the rules section of this Federal Register.

Dated: June 29, 2009.
Miguel I. Flores,
Acting Regional Administrator, Region 6.

[FR Doc. E9-16271 Filed 7-9-09; 8:45 am]

BILLING CODE 6560-50-P